DEPARTMENT OF ENERGY

Federal Energy Regulatory Commission

[Docket No. RD14-11-000]

Proposed Agency Information Collection

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting the information collection in Docket No. RD14-11-000 to the Office of Management and Budget (OMB) for review of the information collection requirements. Any interested person may file comments directly with OMB and should address a copy of those comments to the Commission as explained below. The Commission issued a Notice in the Federal Register (79 FR 46781, 8/11/2014) requesting public comments. FERC received no comments in response to that notice and has made this notation in its submission to OMB.

DATES: Comments on the collection of information are due by December 1, 2014.

ADDRESSES: Comments filed with OMB, regarding FERC-725A (OMB Control Number 1902-0244) and FERC-725X (OMB Control Number TBD), should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. RD14-11-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: The proposed information collection changes in Docket No. RD14-11-000 relate to the proposed Reliability Standards VAR-001-4 (Voltage and Reactive Control) and VAR-002-3 (Generator Operation for Maintaining Network Voltage Schedules), developed by the North American Electric Reliability Corporation (NERC), and submitted to the Commission for approval. The Commission received NERC's petition to approve the proposed Reliability Standards on June 9, 2014.

NERC summarizes the VAR group of standards as follows:

The Voltage and Reactive (“VAR”) group of Reliability Standards, which consists of two continent-wide Reliability Standards, VAR-001-3 and VAR-002-2b, is designed to maintain voltage stability on the Bulk-Power System, protect transmission, generation, distribution, and customer equipment, and support the reliable operation of the Bulk-Power System.¹

¹ NERC Petition at 3.

In its petition, NERC also summarizes the proposed Reliability Standards' applicability and requirements:

In general, proposed Reliability Standard VAR-001-4 sets forth the requirements applicable to Transmission Operators for scheduling, monitoring, and controlling Reactive Power resources in the Real-time Operations, Same-day Operations, and Operational Planning time horizons to regulate voltage and Reactive Power flows for the reliable operation of the Bulk-Power System. Proposed Reliability Standard VAR-002-3 sets forth the requirements applicable to Generator Operators and Generator Owners for providing the necessary reactive support and voltage control necessary to maintain reliable operations. Generators are the largest and most reliable Reactive Power resource and play an integral role in maintaining voltage stability on the Bulk-Power System. Collectively, the proposed Reliability Standards are designed to prevent voltage instability and voltage collapse on the Bulk-Power System.²

² Id. at 4.

Finally, NERC also states that the proposed Reliability Standards improve reliability, clarify requirement language and eliminate redundant or unnecessary requirements.³

³ Id. at 15.

Burden Statement: Commission staff analyzed the proposed and currently enforced standards and has concluded that while information collection requirements have been deleted, added, and/or changed, the overall paperwork burden and applicable respondent universe remains unchanged. To improve accounting of the burden, the Commission recognizes that in the transition from VAR-001-3 to VAR-001-4 (requirement R1) there is a decrease in documentation related to policies and procedures. However, the transmission operators are now required to have documentation related to system voltage and reactive power schedules as well as documentation related to coordination with adjacent transmission operators and applicable reliability coordinators. The Commission estimates that this transition leads to a decrease of 160 hours as well as an increase of 160 hours, for a net change of zero. The Commission seeks comment on whether this estimate is accurate.

For the transition from VAR-002-2b to VAR-002-3, the Commission estimates that changes in requirement R1 lead to an increase of 80 hours for recordkeeping and changes in requirement R2 lead to an increase in 120 hours for documentation. However, the Commission estimates a decrease of the same magnitude (200 hours) related to the changes in requirements R3 and R4. The remaining information collection requirements in the two standards remain essentially unchanged.

Based on the above estimates, the Commission intends to submit a total reduction of 204,240 hours from FERC-725A and a total increase of 204,240 hours into FERC-725X, a new collection FERC is using to account for burden related to VAR reliability standards. The following table summarizes the burden changes:

⁴ TOP = Transmission Operator, GOP = Generator Operator.

⁵ The estimate for cost per hour (rounded to the nearest dollar) is derived as follows:

• $61/hour, the average salary plus benefits (representing 30.1% of the total compensation) per engineer (from Bureau of Labor Statistics at http://bls.gov/oes/current/naics3_221000.htm. and http://www.bls.gov/news.release/ecec.nr0.htm.

Changes | Number of respondents ⁴ | Number of responses per respondent | Average burden hours per response | Total annual burden hours | Total annual cost ⁵
| (1) | (2) | (3) | (1)×(2)×(3) |
VAR-001-4 Requirement R1 Increase (FERC-725X) | 184 (TOP) | 1 | 160 | 29,440 | $1,766,400
VAR-001-4 Requirement R1 Decrease (FERC-725A) | 184 (TOP) | 1 | −160 | −29,440 | −1,766,400
VAR-002-3 Requirement R1 Increase (FERC-725X) | 874 (GOP) | 1 | 80 | 69,920 | 4,195,200
VAR-002-3 Requirement R2 Increase (FERC-725X) | 874 (GOP) | 1 | 120 | 104,880 | 6,292,800
VAR-002-3 Requirements R3 and R4 Decrease (FERC-725A) | 874 (GOP) | 1 | −200 | −174,800 | −10,488,000
Total |  |  |  | 0 | 0

Dated: October 23, 2014.
Kimberly D. Bose,
Secretary.

[FR Doc. 2014-25901 Filed 10-30-14; 8:45 am]

BILLING CODE 6717-01-P